FEDERAL ACCOUNTING STANDARDS ADVISORY BOARD

Notice of Federal Accounting Standards Advisory Board 2017 Meeting Schedule

AGENCY: Federal Accounting Standards Advisory Board.

ACTION: Notice.

Board Action: Pursuant to 31 U.S.C. 3511(d), the Federal Advisory Committee Act (Pub. L. 92-463), as amended, and the FASAB Rules of Procedure, as amended in October 2010, notice is hereby given that the Federal Accounting Standards Advisory Board (FASAB) will hold its meetings on the following dates throughout 2017, unless otherwise noted.

February 22-23, 2017

April 26-27, 2017

June 21-22, 2017

August 30-31, 2017

October 25-26, 2017

December 20-21, 2017

The purpose of the meetings is to discuss issues related to the following topics:

Accounting and Reporting of Government Land

Budget and Accrual Reconciliation

Concepts—The Financial Report

DoD Implementation Guidance Request

Leases

Risk Assumed

Tax Expenditures

Any other topics as needed

Unless otherwise noted, FASAB meetings begin at 9 a.m. and conclude before 5 p.m. and are held at the Government Accountability Office (GAO) at 441 G Street NW. in Room 7C13. Agendas and briefing materials are available at http://www.fasab.gov/briefing-materials/ approximately one week before the meetings.

Any interested person may attend the meetings as an observer. Board discussion and reviews are open to the public. GAO building security requires advance notice of your attendance. If you wish to attend a FASAB meeting, please pre-register on our Web site at http://www.fasab.gov/pre-registration/ no later than 8 a.m. the Tuesday before the meeting to be observed.

FOR FURTHER INFORMATION CONTACT: Ms. Wendy M. Payne, Executive Director, 441 G Street NW., Mailstop 6H19, Washington, DC 20548, or call (202) 512-7350.

Authority: Federal Advisory Committee Act, Pub. L. 92-463.

Dated: December 21, 2016.
Wendy M. Payne,
Executive Director.

[FR Doc. 2016-31378 Filed 12-27-16; 8:45 am]

BILLING CODE 1610-02-P